DEPARTMENT OF DEFENSE

Department of the Army

Board of Visitors, United States Military Aacademy (USMA)

AGENCY: Department of the Army, DoD.

ACTION: Notice of open meeting.

SUMMARY: In accordance with Section 10(a)(2) of the Federal Advisory Committee Act (Pub. L. 92-463), announcement is made of the following committee meeting:

Name of Committee: Board of Visitors, United States Military Academy.

Date: Wednesday, April 25, 2007.

Place of Meeting: The Capitol Building, Room H137, Washington, DC.

Time of Meeting: Approximately 9:30 a.m. through 3 p.m.

Board Mission: The Board, under the provisions of 10 U.S.C. 4355, and the Federal Advisory Committee Act of 1972, as amended, shall provide the President of the United States independent advice and recommendations on matters relating to the U.S. Military Academy, to include but not limited to morale and discipline, curriculum, instruction, physical equipment, and academic methods.

Board Membership: The Board is composed of 15 members, 9 of which are members of Congress and 6 persons designated by the President. The 2007 Chairman of the Board is Congressman John McHugh, New York-23rd District.

FOR FURTHER INFORMATION CONTACT: Lieutenant Colonel Shaun T. Wurzbach, United States Military Academy, West Point, NY 10996-5000, (845) 938-4200 or via e-mail: shaun.wurzbach@usma.edu.

SUPPLEMENTARY INFORMATION: Proposed Agenda: Spring Meeting of the Board of Visitors. Review of the Academic, Military and Physical Programs at the USMA. All proceedings are open to the public. Picture identification is required to enter the Capitol Building. Subcommittees shall meet prior to the Board meeting. The Board plans to inquire into curriculum and academic methods, fiscal affairs, the USMA Master Plan, Lean Six Sigma, BRAC and the relocation of the United States Military Academy Preparatory School, and Admissions. The Board shall consider a motion to expand subcommittees and shall vote to approve revised Board operating rules.

Public Inquiry at Board Meetings: Any member of the public is permitted to file a written statement with the USMA Board of Visitors. Written statements should be sent to the Designated Federal Officer (DFO) at: United States Military Academy, Office of the Secretary of the General Staff (MASG), 646 Swift Road, West Point, NY 10996-1905 or faxed to the Designated Federal Officer (DFO) at (845) 938-3214. Written statements must be received no later than five working days prior to the next meeting in order to provide time for member consideration.

By rule, no member of the public attending open meetings will be allowed to present questions from the floor or speak to any issue under consideration by the Board.

Brenda S. Bowen,
Army Federal Register Liaison Officer.

[FR Doc. 07-1162 Filed 3-12-07; 8:45 am]

BILLING CODE 3710-08-M